DEPARTMENT OF THE INTERIOR

National Park Service

Notice of Inventory Completion: New York State Museum, Albany, NY

AGENCY: National Park Service.

ACTION: Notice.

Notice is here given in accordance with the Native American Graves Protection and Repatriation Act (NAGPRA), 25 U.S.C. 3003, of the completion of an inventory of human remains in the possession of the New York State Museum, Albany, NY. The human remains were removed from the Parker Farm site, Schuyler County, NY.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by New York State Museum professional staff in consultation with representatives of the Cayuga Nation of New York and the Seneca¯Cayuga Tribe of Oklahoma.

In 1915, human remains representing one individual were removed during sand and gravel mining from the Parker Farm site (NYSM site no. 2190), Hector Township, Schuyler County, NY, by employees of the State Commission of Highways. The human remains were donated to the New York State Museum by Irving J. Morris, Secretary of the State Commission of Highways, the same year. No known individual was identified. No associated funerary objects are present.

At an unknown date between 1915 and 1924, human remains representing seven individuals were removed from disturbed contexts at the Parker Farm site by Perry City town supervisor Dr. J.M. Townsend. Dr. Townsend donated the human remains to the New York State Museum in 1924. No known individuals were identified. No associated funerary objects are present.

The Parker Farm site is located between Cayuga Lake and Owasco Lake, NY. It is a habitation site and cemetery that was possibly palisaded. The types of ceramics recovered during excavation indicate that the site was inhabited circa A.D. 1525¯1550. Archeological evidence and oral history indicate that Native American communities in this region in the 16th century are ancestral to the present¯day Cayuga Indians.

Officials of the New York State Museum have determined that, pursuant to 25 U.S.C. 3001 (9¯10), the human remains described above represent the physical remains of eight individuals of Native American ancestry. Officials of the New York State Museum also have determined that, pursuant to 25 U.S.C. 3001 (2), there is a relationship of shared group identity that can be reasonably traced between the Native American human remains and the Cayuga Nation of New York and the Seneca¯Cayuga Tribe of Oklahoma

Representatives of any other Indian tribe that believes itself to be culturally affiliated with the human remains should contact Lisa M. Anderson, NAGPRA Coordinator, New York State Museum, 3122 Cultural Education Center, Albany, New York 12230, telephone (518) 486¯2020, before May 2, 2005. Repatriation of the human remains to the Cayuga Nation of New York and the Seneca¯Cayuga Tribe of Oklahoma may proceed after that date if no additional claimants come forward.

The New York State Museum is responsible for notifying the Cayuga Nation of New York and the Seneca¯Cayuga Tribe of Oklahoma that this notice has been published.

Sherry Hutt,
Manager, National NAGPRA Program.

[FR Doc. 05-6463 Filed 3-31-05; 8:45 am]

BILLING CODE 4312-50-S